DEPARTMENT OF JUSTICE

Antitrust Division

Notice Pursuant to The National Cooperative Research and Production Act of 1993—The Open Group, L.L.C.

Notice is hereby given that, on November 3, 2020, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 3ES Innovation Inc., Calgary, CANADA; Asesorías y Desarrollos Corporativos S.A., San José, COSTA RICA; Asia eHealth Information Network, Kowloon, PEOPLE'S REPUBLIC OF CHINA; Atkins Limited, Epsom, UNITED KINGDOM; Bridewell Consulting Ltd, Reading, UNITED KINGDOM; Brunei Shell Petroleum Company Sendirian Berhad, Seria, BRUNEI; Chameleon Consulting Group, L.L.C., Leesburg, VA; CloudReplica, Houston, TX; CS Communication & Systems, Inc., East Hartford, CT; Cyient, Inc., Melbourne, FL; dataVediK LLC, Houston, TX; Digital Petroleum LLC; Moscow, RUSSIAN FEDERATION; Easthome Beijing Consulting & Service Co., LTD, Beijing, PEOPLE'S REPUBLIC OF CHINA; Edgelox, Duluth, GA; Embassy of Things, San Diego, CA; GaN Corporation, Huntsville, AL; Geoprocesados, SA de CV, Villahermosa, MEXICO; Hippo Software Limited, Livingston, UNITED KINGDOM; i2k Connect Inc, Houston, TX; INPEX Corporation, Tokyo, JAPAN; Intertek, Spring, TX; Kansas Geological Survey, Lawrence, KS; Lyrn, Copenhagen, DENMARK; MIT Lincoln Laboratory, Lexington, MA; Mr Doc SRL, Rome, ITALY; National Institute of Standards and Technology, Gaithersburg, MD; New Wave DV, Minneapolis, MN; NovaTech Process Solutions, LLC, Owings Mills, MD; OOO Reksoft Co. Ltd., Moscow, RUSSIAN FEDERATION; Pacific Star Communications, Inc., Portland, OR; Pariveda Solutions, Inc., Dallas, TX; PJSC Gazprom Neft, St. Petersburg, RUSSIAN FEDERATION; Questlabs, Chandigarh, INDIA; Rogerson Kratos, Irvine, CA; Saab, Inc., East Syracuse, NY; Tatsoft LLC, Arlington Heights, IL; Vanke Service Co., Ltd, Shenzhen, PEOPLE'S REPUBLIC OF CHINA; and WX Geo Services Sdn. Bhd., Kuala Lumpur, MALAYSIA, have been added as parties to this venture.

Also, AGESIC, Montevideo, URUGUAY; Autopro Grande Prairie, CANADA; Beijing Pitaya Software Engineering Technology Center; Beijing, PEOPLE'S REPUBLIC OF CHINA; Chinese Culture University, Taipei, TAIWAN; Electronic Warfare Associates-Canada, Ltd., Ottawa, ON, CANADA; GrammaTech, Inc., Ithaca, NY; Harmonic, Ilminster, UNITED KINGDOM; Helium Consulting, Pune, INDIA; Impetus FZE, Dubai, UNITED ARAB EMIRATES; InProgress sp. z.o.o., Krakow, POLAND; Kluger Training, Bucharest, ROMANIA; KnowNXT, L.L.C., Dubai, UNITED ARAB EMIRATES; LRDC Systems LLC, Alexandria, VA; Momentum Management Consulting, Camp Hill, PA; UMBRiO B.V., Rijswijk, THE NETHERLANDS; Universidad Iberoamericana, Mexico City, MEXICO; University of South Florida, St. Petersburg, FL; VTS, Inc., Folsom, CA; and White Cloud Software Ltd., Bowen Island, CANADA have withdrawn as parties to this venture.

In addition, Praxair, Inc. has changed its name to Linde, Inc., Tanawanda, NY.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on July 27, 2020. A notice was published in the Federal Register pursuant to Section 6(b) of the Act on August 28, 2020 (85 FR 53399).

Suzanne Morris,
Chief, Premerger and Division Statistics, Antitrust Division.

[FR Doc. 2020-25722 Filed 11-20-20; 8:45 am]

BILLING CODE P